DEPARTMENT OF DEFENSE

Department of the Army

Notice of Availability of the Final Environmental Impact Statement (FEIS) for the Disposal of Chemical Munitions at Pueblo Chemical Depot, Colorado

AGENCY: Department of the Army, DoD.

ACTION: Notice of availability.

SUMMARY: This announces the availability of the FEIS which assesses the potential environmental impacts of the design, construction, operation and closure of a facility to destroy the chemical agent and munitions currently stored at the Pueblo Chemical Depot. The FEIS examines the potential environmental impacts of the following destruction facility alternatives: (1) Baseline incineration facility; (2) modified baseline incineration facility; (3) neutralization followed by supercritical water oxidation; (4) neutralization followed by biodegradation (preferred alternative); and (5) no action (i.e., continued storage of chemical munitions at Pueblo Chemical Depot). Although the no action alternatives is not viable under Public Law 99-145 (Department of Defense Authorization Act of 1986), it was analyzed to provide a comparison with the proposed action.

DATES: The waiting period on the FEIS will end 30 days after publication of the notice of availability in the Federal Register by the U.S. Environmental Protection Agency.

ADDRESSES: To obtain copies of the FEIS, contact the Program Manager for Chemical Demilitarization, Public Outreach and Information Office (ATTN: Ms. Sandra Clawson-Freeo), Building E-4585, Aberdeen Proving Ground, Maryland 21010-4005.

FOR FURTHER INFORMATION CONTACT: Ms. Sandra Clawson-Freeo at 410-436-1479, by fax at 410-436-5122, by electronic mail at Sandra.Clawson-Freeo@pmcd.apgea.army.mil or by mail at the above listed address.

SUPPLEMENTARY INFORMATION: In its Record of Decision on February 26, 1988 (53 FR 5816, February 26, 1988) for the Final Programmatic Environmental Impact Statement on the Chemical Stockpile Disposal Program (CSDP), the Department of the Army selected on-site disposal by incineration at all eight chemical munition storage sites located within the continental United States as the method by which it will destroy its lethal chemical stockpile. The Department of the Army published a Notice of Intent in the Federal Register (65 FR 20140-41, April 14, 2000) which provides notice that, pursuant to the National Environmental Policy Act and implementing regulations, it was preparing a draft site-specific EIS for the Pueblo Chemical Agent Disposal Facility. The Department of the Army published a Draft EIS to assess the site-specific health and environmental impacts of on-site disposal of the chemical agents and munitions stored at the Pueblo Chemical Depot on May 11, 2001 (66 FR 24136). All public comments received on the Draft EIS have been addressed in the FEIS.

The Program Manager for Assembled Chemical Weapons Assessment (ACWA) is preparing a separate EIS. The ACWA EIS is for follow-on pilot testing of the ACWA program pursuant to the process established by Congress in Public Laws 104-208 and 105-261. The ACWA EIS is distinct from this FEIS for the Pueblo Chemical Depot in that its emphasis is on the feasibility of pilot testing one or more of the ACWA technologies at one or more sites. One of the four sites evaluated in the ACWA EIS is the Pueblo Chemical Depot. The ACWA EIS does not specifically address the use of a full-scale facility to accomplish destruction of the inventory stored at Pueblo. Information provided by the ACWA program concerning the neutralization technologies provides the basis for analysis of the neutralization technologies and comparison with incineration is this site-specific FEIS for stockpile destruction at Pueblo. This Program Manager for Chemical Demilitarization FEIS and the ACWA EIS serve complementary but distinct purposes. This FEIS continues the process that began with Congress established the Program Manager for Chemical Demilitarization in 1985.

A decision on which of the alternatives will be implemented in carrying out destruction of the chemical munitions at Pueblo will be made by the Defense Acquisition Board (DAB) through a process that will consider a wide range of factors. The factors include, but are not limited to, environmental considerations, laws and regulations, mission needs (at Pueblo as well as from a national perspective), implications for compliance with the Chemical Weapons Convention, budget considerations, schedule, public concerns, and political concerns.

A Record of Decision will be made following the end of the 30-day review period.

Dated: April 1, 2002.
Raymond J. Fatz,
Deputy Assistant Secretary of the Army, (Environment, Safety and Occupational Health), OASA (I&E).

[FR Doc. 02-9266 Filed 4-16-02; 8:45 am]

BILLING CODE 3710-08-M